DEPARTMENT OF LABOR

Employment and Training Administration

Investigation Regarding Certifications of Eligibility To Apply for Worker Adjustment Assistance

Petitions have been filed with the Secretary of Labor under section 221(a) of the Trade Act of 1974 (“the Act”) and are identified in the Appendix to this notice. Upon receipt of these petitions, the Director of the Division of Trade Adjustment Assistance, Employment and Training Administration, has instituted investigations pursuant to section 221(a) of the Act.

The purpose of each of the investigations is to determine whether the workers are eligible to apply for adjustment assistance under title II, chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than May 13, 2004.

Interested persons are invited to submit written comments regarding the subject matter of the investigations to the Director, Division of Trade Adjustment Assistance, at the address shown below, not later than May 13, 2004.

The petitions filed in this case are available for inspection at the Office of the Director, Division of Trade Adjustment Assistance, Employment and Training Administration, U.S. Department of Labor, Room C-5311, 200 Constitution Avenue, NW., Washington, DC 20210.

Signed at Washington, DC, this 26th day of April, 2004.
Timothy Sullivan,
Director, Division of Trade Adjustment Assistance.

Appendix
[Petitions instituted between 03/29/2004 and 04/02/2004]
TA-W | Subject firm (petitioners) | Location | Date of institution | Date of petition
54,608 | MedSource Technologies (Comp) | Newton, MA | 03/29/2004 | 03/22/2004
54,609 | Akzo Nobel Coatings, Inc. (Comp) | High Point, NC | 03/29/2004 | 03/19/2004
54,610 | Watts Regulator (Wkrs) | Spindale, NC | 03/29/2004 | 03/17/2004
54,611 | Jockey International, Inc. (Comp) | Mt. Sterling, KY | 03/29/2004 | 03/29/2004
54,612 | CCC Information Services (Wkrs) | Chicago, IL | 03/29/2004 | 03/15/2004
54,613 | TI Group Automotive Systems, LLC (Comp) | Greeneville, TN | 03/29/2004 | 03/23/2004
54,614 | IDRA Prince (Wrks) | Holland, MI | 03/29/2004 | 03/27/2004
54,615 | PPG Industries, Inc. (Wkrs) | Berea, KY | 03/29/2004 | 03/23/2004
54,616 | B and C Hosiery, Inc. (Comp) | Henagar, AL | 03/30/2004 | 03/19/2004
54,617 | General Electric (USWA) | Coshocton, OH | 03/30/2004 | 03/10/2004
54,618 | Dayton Technologies (DE) | Wilmington, DE | 03/30/2004 | 03/29/2004
54,619 | Agilent Technologies (Wkrs) | Liberty Lake, WA | 03/30/2004 | 03/29/2004
54,620 | NVF (DE) | Wilmington, DE | 03/30/2004 | 03/29/2004
54,621 | W.P. Industries (Wkrs) | Norwalk, CA | 03/30/2004 | 03/02/2004
54,622 | Henderson Sewing Machine Co. (Comp) | Andalusia, AL | 03/30/2004 | 03/26/2004
54,623 | Piedmont Sewing Machine (Comp) | Pittsburgh, PA | 03/30/2004 | 03/30/2004
54,624 | Belarus Tractor International (Wkrs) | Milwaukee, WI | 03/30/2004 | 03/22/2004
54,625 | SGL Carbon, LLC (IUE) | St. Mary's, PA | 04/01/2004 | 03/22/2004
54,626 | Distribution Dynamics (Wkrs) | Portland, OR | 04/01/2004 | 03/18/2004
54,627 | CFM Home Products (Comp) | Ardmore, TN | 04/01/2004 | 03/11/2004
54,628 | United States Steel (Wkrs) | Pittsburgh, PA | 04/01/2004 | 03/25/2004
54,629 | Motorola (Wkrs) | Tempe, AZ | 04/01/2004 | 03/31/2004
54,630 | Osborn Manufacturing, Co. (UAW) | Cleveland, OH | 04/01/2004 | 03/22/2004
54,631 | IBM Corporation (Wkrs) | RTP, NC | 04/01/2004 | 03/26/2004
54,632 | Alpine Electronics Mfg. of America, Inc. (Comp) | Greenwood, IN | 04/01/2004 | 03/25/2004
54,633 | Philips Consumer Electronics (Comp) | Knoxville, TN | 04/01/2004 | 03/24/2004
54,634 | Ampad (Comp) | W. Valley City, UT | 04/01/2004 | 03/19/2004
54,635 | West Side Stitching, Inc. (Comp) | Wyoming, PA | 04/01/2004 | 03/30/2004
54,636 | Wyoming Wood Products, Inc. (Comp) | Wyoming, PA | 04/01/2004 | 03/03/2004
54,637 | Rice Mills, Inc. (Comp) | Belton, SC | 04/01/2004 | 03/31/2004
54,638 | Spartech Polycom (Wkrs) | Danora, PA | 04/01/2004 | 03/30/2004
54,639 | PL Subsidiary, Inc. (Comp) | Winder, GA | 04/01/2004 | 03/29/2004
54,640 | PSC Metals, Inc. (Comp) | Cleveland, OH | 04/01/2004 | 03/30/2004
54,641 | Flynt Fabrics, Inc. (Comp) | Burlington, NC | 04/01/2004 | 03/24/2004
54,642 | Smart Papers, LLC (Wkrs) | Hamilton, OH | 04/01/2004 | 03/25/2004
54,643 | General Electric Consumer Finance (Wkrs) | Canton, OH | 04/01/2004 | 03/22/2004
54,644 | Celestica (Comp) | Chippewa Falls, WI | 04/01/2004 | 03/31/2004
54,645 | Precision Interconnect/Tyco Electronics (OR) | Wilsonville, OR | 04/01/2004 | 03/30/2004
54,646 | Advanced Glass Fiber Yarns, LLC (Comp) | South Hill, VA | 04/01/2004 | 03/23/2004
54,647 | Ormet Primary Aluminum Corp. (Comp) | Hannibal, OH | 04/01/2004 | 03/31/2004
54,648 | American General Life (Wkrs) | Dallas, TX | 04/02/2004 | 03/29/2004
54,649 | Cigna Healthcare (NH) | Hooksett, NH | 04/02/2004 | 04/02/2004
54,650 | Wright Express (Wkrs) | S. Portland, ME | 04/02/2004 | 03/31/2004
54,651 | XL Dowel (ME) | New Portland, ME | 04/02/2004 | 03/31/2004
54,652 | Tanya Creations, Inc. (Comp) | E. Providence, RI | 04/02/2004 | 03/01/2004
54,653 | Affina (Wkrs) | Peoria, IL | 04/02/2004 | 03/29/2004
54,654 | Medtronic Vascular (Comp) | Danvers, MA | 04/02/2004 | 03/30/2004
54,655 | KF Industries (Wkrs) | Oklahoma City, OK | 04/02/2004 | 03/31/2004
54,656 | Eljer Plumbingware, Inc. (USWA) | Ford City, PA | 04/02/2004 | 03/26/2004

[FR Doc. 04-9962 Filed 4-30-04; 8:45 am]

BILLING CODE 4510-30-M